COMMISSION ON CIVIL RIGHTS

Sunshine Act Notice

AGENCY: Commission on Civil Rights.

DATE and time: Friday, April 7, 2006, 9 a.m.

place: 226 Dirksen Senate Office Building, First Street and Constitution Avenue, NE., Washington, DC 20510.

status:

Briefing Agenda

Commission Briefing: Racial Categorization in the 2010 Census

• Introductory Remarks by Chairman.

• Speakers' Presentations.

• Questions by Commissioners and Staff Director.

Agenda

I. Approval of Agenda

II. Approval of Minutes of March 10, 2006 meeting

III. Announcements

IV. Staff Director's Report

V. Program Planning

• Voting Rights Act Statutory Report

• Report from the Briefing on the Native Hawaiian Government Reorganization Act

• Report from the Briefing on Disparity Studies

• Annual Program Planning

VI. Management and Operations

• Web site: Posting Commissioner letters to the U.S. Department of Education expressing concerns with the American Bar Association's new diversity standards and regarding the ABA's petition for renewal of reaccreditation authority.

VII. Future Agenda Items

contact person for further information: Audrey Wright, Office of the Staff Director (202) 376-7700.

Kenneth L. Marcus,
Staff Director, Acting General Counsel.

[FR Doc. 06-3150 Filed 3-28-06; 3:29 pm]

BILLING CODE 6335-01-M